DEPARTMENT OF AGRICULTURE

Rural Business-Cooperative Service

Announcement of Rural Cooperative Development Grant Application Deadlines and Funding Levels

AGENCY: Rural Business-Cooperative Service, USDA.

ACTION: Notice of solicitation of applications.

SUMMARY: Rural Business-Cooperative Service programs are administered through USDA Rural Development. USDA Rural Development announces the availability of approximately $3.5 million in competitive grant funds for the fiscal year (FY) 2007 Rural Cooperative Development Grant (RCDG) Program. The intended effect of this notice is to solicit applications for FY 2007 and award grants on or before September 14, 2007. The maximum award per grant is $200,000 and matching funds are required.

DATES: Applications for grants must be submitted on paper or electronically according to the following deadlines:

Paper copies must be postmarked and mailed, shipped, or sent overnight no later than June 8, 2007, to be eligible for FY 2007 grant funding. Late applications are not eligible for FY 2007 grant funding.

Electronic copies must be received by June 8, 2007, to be eligible for FY 2007 grant funding. Late applications are not eligible for FY 2007 grant funding.

ADDRESSES: Application materials for a RCDG may be obtained at http://www.rurdev.usda.gov/rbs/coops/rcdg/rcdg.htm or by contacting the applicant's USDA Rural Development State Office at (202) 720-4323 and pressing “1”.

Submit completed paper applications for a grant to Cooperative Programs, Attn: RCDG Program, 1400 Independence Avenue, SW., Mail Stop 3250, Room 4016-South, Washington, DC 20250-3250. The phone number that should be used for courier delivery is (202) 720-7558.

Submit electronic grant applications at http://www.grants.gov, following the instructions found on this Web site.

FOR FURTHER INFORMATION CONTACT: Visit the program Web site at http://www.rurdev.usda.gov/rbs/coops/rcdg/rcdg.htm for application assistance or contact your USDA Rural Development State Office at (202) 720-4323 and press “1”, or select the Contacts link at the above Web site. Applicants are encouraged to contact their State Offices well in advance of the deadline to discuss their projects and ask any questions about the application process.

SUPPLEMENTARY INFORMATION:

Overview

Federal Agency: Rural Business-Cooperative Service (RBS).

Funding Opportunity Title: Rural Cooperative Development Grant.

Announcement Type: Initial announcement.

Catalog of Federal Domestic Assistance Number: 10.771.

Dates: Application Deadline: Completed applications for grants may be submitted on paper or electronically according to the following deadlines:

Paper copies must be postmarked and mailed, shipped, or sent overnight no later than June 8, 2007, to be eligible for FY 2007 grant funding. Late applications are not eligible for FY 2007 grant funding.

Electronic copies must be received by June 8, 2007, to be eligible for FY 2007 grant funding. Late applications are not eligible for FY 2007 grant funding.

I. Funding Opportunity Description

RCDGs are authorized by section 310B(e) of the Consolidated Farm and Rural Development Act (7 U.S.C. 1932(e)). Regulations are contained in 7 CFR part 4284, subparts A and F. The primary objective of the RCDG program is to improve the economic condition of rural areas through cooperative development. Grant funds are provided for the establishment and operation of Centers that have the expertise or who can contract out for the expertise to assist individuals or entities in the startup, expansion or operational improvement of cooperative businesses. The program is administered through USDA Rural Development State Offices.

Definitions

The definitions published at 7 CFR 4284.3 and 4284.504 are incorporated by reference.

II. Award Information

Type of Award: Grant.

Fiscal Year Funds: FY 2007.

Approximate Total Funding: $3.5 million.

Approximate Number of Awards: 18.

Approximate Average Award: $200,000.

Floor of Award Range: None.

Ceiling of Award Range: $200,000.

Anticipated Award Date: September 14, 2007.

Budget Period Length: 12 months.

Project Period Length: 12 months.

III. Eligibility Information

A. Eligible Applicants

Grants may be made to nonprofit corporations and institutions of higher education. Grants may not be made to public bodies.

B. Cost Sharing or Matching

Matching funds are required. Applicants must verify in their applications that all matching funds are available for the time period of the grant. The matching fund requirement is 25 percent of the total project cost (5 percent in the case of 1994 Institutions). Unless provided by other authorizing legislation, other Federal grant funds cannot be used as matching funds. However, matching funds may include loan proceeds from Federal sources. Matching funds must be spent in advance or as a pro-rata portion of grant funds being expended. All of the matching funds must be provided by either the applicant or a third party in the form of cash or in-kind contributions. All of the matching funds must be spent on eligible expenses and must be from eligible sources. The Center must be able to document and verify the number of hours worked and the value associated with the in-kind contribution. Additionally, if the in-kind contributions are from board members for their time, travel, incidentals, etc., the Center must have established written policies explaining how these costs are normally reimbursed, including rates. Otherwise, the in-kind contributions will not be considered eligible expenses and may cause the application to be determined ineligible for funding. In-kind contributions provided by individuals, businesses, or cooperatives who are being assisted by the Center can not be provided for the benefit of their own projects as USDA Rural Development considers this to be a conflict of interest or the appearance of a conflict of interest.

C. Other Eligibility Requirements

Grant Period Eligibility: Applications should have a timeframe of no more than 365 days with the time period beginning no earlier than October 1, 2007 and no later than January 1, 2008. Projects must be completed within the 1-year timeframe. The Agency will not approve requests to extend the grant period.

Completeness Eligibility: Applications without sufficient information to determine eligibility and scoring will be considered ineligible. Applications that are non-responsive to this notice will be considered ineligible.

Activity Eligibility: Applications must propose the development or continuation of the cooperative development center concept or they will not be considered for funding. Additionally, applications that focus assistance to only one cooperative will not be considered for funding. Applications requesting more than the maximum grant amount will not be considered for funding. Applications that have ineligible costs that equal more than 10 percent of the total project costs will be determined ineligible, and not be considered for funding. If an application has ineligible costs of 10 percent or less of total project costs and is selected for funding, the applicant must remove all ineligible costs from the budget and replace them with eligible activities or the amount of the grant award will be reduced accordingly.

IV. Application and Submission Information

A. Address To Request Application Package

The application package for applying on paper for this funding opportunity can be obtained at http://www.rurdev.usda.gov/rbs/coops/rcdg/rcdg.htm. Alternatively, applicants may contact their USDA Rural Development State Office at (202) 720-4323 and press “1”. For electronic applications, applicants must visit http://www.grants.gov and follow the instructions.

B. Content and Form of Submission

Applications must be submitted on paper or electronically. An application guide may be viewed at http://www.rurdev.usda.gov/rbs/coops/rcdg/rcdg.htm. It is recommended that applicants use the template provided on the Web site. The template can be filled out electronically and printed out for submission with the required forms for paper submission or it can be filled out electronically and submitted as an attachment through http://www.grants.gov.

If an application is submitted on paper, one signed original of the complete application must be submitted in the following format:

• Font size: 12 point unreduced.

• Paper size: 8.5 by 11 inches.

• Page margin size: 1 inch on the top, bottom, left, and right.

• Printed on only one side of each page.

• Held together only by rubber bands or metal or plastic clips; not bound in any other way.

• Language: English, avoid jargon.

The submission must include all pages of the application. It is recommended that the application be in black and white, not color. Those evaluating the application will only receive black and white images.

If the application is submitted electronically, the applicant must follow the instructions given at http://www.grants.gov. Applicants are advised to visit the site well in advance of the application deadline if they plan to apply electronically to ensure they have obtained the proper authentication and have sufficient computer resources to complete the application.

Applicants must complete and submit the following elements. The Agency will screen all applications for eligibility and to determine whether the application is complete and sufficiently responsive to the requirements set forth in this notice to allow for an informed review. Information submitted as part of the application will be protected to the extent permitted by law.

1. Form SF-424, “Application for Federal Assistance.” The form must be completed, signed and submitted as part of the application package.

Please note that applicants are required to have a DUNS number to apply for a grant from USDA Rural Development. The DUNS number is a nine-digit identification number, which uniquely identifies business entities. There is no charge. To obtain a DUNS number, access http://www.dnb.com/us/ or call 866-705-5711. For more information, see the RCDG Web site at http://www.rurdev.usda.gov/rbs/coops/rcdg/rcdg.htm or contact the applicant's USDA Rural Development State Office at (202) 720-4323 and press “1”.

2. Form SF-424A, “Budget Information—Non-Construction Programs.”

This form must be completed and submitted as part of the application package.

3. Form SF-424B, “Assurances—Non-Construction Programs.” This form must be completed, signed, and submitted as part of the application package.

4. Survey on Ensuring Equal Opportunity for Applicants. The Agency is required to make this survey available to all nonprofit applicants. Submitting this form is voluntary.

5. Title Page. The Title Page, not to exceed one page, should include the title of the project as well as any other relevant identifying information.

6. Table of Contents. For ease of locating information, each proposal must contain a detailed Table of Contents (TOC) immediately following the Title Page. The TOC should include page numbers for each component of the application.

7. Executive Summary. A summary of the proposal, not to exceed two pages, must briefly describe the Center, including project goals and tasks to be accomplished, the amount requested, how the work will be performed (e.g., Center staff, consultants, or contractors) and the percentage of work that will be performed among the parties.

8. Eligibility. The applicant must describe, not to exceed two pages, how it meets the applicant, matching, grant period and activity eligibility requirements.

9. Proposal Narrative. The proposal narrative is limited to a total of 40 pages.

i. Project Title. The title of the proposed project must be brief, not to exceed 75 characters, yet describe the essentials of the project. If a title page was included under number 5 above, it is not necessary to include an additional title page under this section.

ii. Information Sheet. A separate one-page information sheet listing each of the evaluation criteria referenced in the RFP, followed by the page numbers of all relevant material and documentation contained in the proposal that address or support the criteria. If the evaluation criteria are listed on the Table of Contents and specifically and individually addressed in narrative form, then it is not necessary to include an information sheet under this section.

iii. Goals of the Project. The applicant must include the following statements in this section of the narrative to demonstrate that the Center is following these statutory requirements:

1. A statement that substantiates that the Center will effectively serve rural areas in the United States;

2. A statement that the primary objective of the Center will be to improve the economic condition of rural areas through cooperative development;

3. A description of the contributions that the proposed activities are likely to make to the improvement of the economic conditions of the rural areas for which the Center will provide services; and

4. A statement that the Center, in carrying out its activities, will seek, where appropriate, the advice, participation, expertise, and assistance of representatives of business, industry, educational institutions, the Federal government, and State and local governments.

iv. Work Plan. Please see section V. A. 8. for specific requirements on the work plan and budget. The work plan and budget should be presented under proposal evaluation criterion number 8. It is not necessary to include the work plan and budget under this section.

v. Performance Evaluation Criteria. The Agency has established annual performance measures to evaluate the RCDG program. Applicants must provide estimates on the following performance measures.

• Number of groups who are not legal entities assisted.

• Number of businesses that are not cooperatives assisted.

• Number of cooperatives assisted.

• Number of businesses incorporated that are not cooperatives.

• Number of cooperatives incorporated.

• Total number of jobs created as a result of assistance.

• Total number of jobs saved as a result of assistance.

• Number of jobs created for the Center as a result of RCDG funding.

• Number of jobs saved for the Center as a result of RCDG funding.

It is permissible to have a zero in a performance element. When calculating jobs created, estimates should be based upon actual jobs to be created by the Center as a result of the RCDG funding or actual jobs to be created by businesses or cooperatives as a result of assistance from the Center. When calculating jobs saved, estimates should be based only on actual jobs that would have been lost if the Center did not receive RCDG funding or actual jobs that would have been lost without assistance from the Center. If the application is selected for funding, the applicant will be required to report actual numbers for these performance elements on a semi-annual basis and in the final performance report. Additional information on post-award requirements can be found in Section VI. Applicants may also suggest additional performance criteria in the event the proposal receives grant funding. The criteria are not binding on USDA, but should be specific, measurable performance criteria. The inclusion of additional performance criteria beyond the nine listed above is voluntary.

vi. Undertakings. The applicant must include the following statements in this section of the narrative and expressly undertake to do them.

1. Take all practicable steps to develop continuing sources of financial support for the Center, particularly from sources in the private sectors;

2. Make arrangements for the Center's activities to be monitored and evaluated; and

3. Provide an accounting for the money received by the grantee in accordance with 7 CFR part 4284, subpart F.

vii. Delivery of Cooperative development assistance. Please see section V. A. 7. for specific requirements on delivery of cooperative development assistance. Delivery should be presented under proposal evaluation criterion number 7. It is not necessary to include discussion on delivery of cooperative development assistance under this section.

viii. Qualifications of Personnel. Please see section V. A. 9. for specific requirements on qualifications of personnel. Qualifications of personnel should be presented under proposal evaluation criterion number 9. It is not necessary to include discussion on qualifications of personnel under this section.

ix. Support and commitments. Please see section V. A. 10. for specific requirements on support and commitments. Support and commitments should be presented under proposal evaluation criterion number 10. It is not necessary to include discussion on support and commitments under this section.

x. Future Support. Please see section V. A. 11. for specific requirements on future support. Future support should be presented under proposal evaluation criterion number 11. It is not necessary to include discussion on future support under this section.

xi. Proposal Evaluation Criteria. Each of the evaluation criteria referenced in this funding announcement must be specifically and individually addressed in narrative form. Applications that do not address all of the proposal evaluation criteria will be considered ineligible. See Section V. A. for a description of the Proposal Evaluation Criteria.

10. Certification of Judgment Owed to the United States. Applicants must certify that the United States has not obtained a judgment against them. No grant funds shall be used to pay a judgment obtained by the United States. It is suggested that applicants use the following language for the certification. “[INSERT NAME OF APPLICANT] certifies that the United States has not obtained a judgment against it.” A separate signature is not required.

11. Certification of Matching Funds. Applicants must certify that matching funds will be available at the same time grant funds are anticipated to be spent and that matching funds will be spent in advance of grant funding, such that for every dollar of the total project cost, not less than the required amount of matching funds will have been expended prior to submitting the request for reimbursement. Please note that this certification is a separate requirement from the Verification of Matching Funds requirement. Applicants should include a statement for this section that reads as follows: “[INSERT NAME OF APPLICANT] certifies that matching funds will be available at the same time grant funds are anticipated to be spent and that matching funds will be spent in advance of grant funding, such that for every dollar of the total project cost, at least 25 cents (5 cents for 1994 Institutions) of matching funds will have been expended prior to submitting the request for reimbursement.” A separate signature is not required.

12. Verification of Matching Funds. Applicants must provide documentation of all proposed matching funds, both cash and in-kind. The documentation must be included in Appendix A and will not count towards the 40-page limitation.

If matching funds are to be provided by the applicant in cash, there must be a statement that cash will be available, the amount of the cash, and the source of the cash. Applicants should note that only goods or services for which no expenditure is made can be considered in-kind. If the applicant is paying for goods and services as part of the matching funds contribution, the expenditure is considered a cash match, and should be verified as such. If the matching funds are to be provided by a third party in cash, the application must include a signed letter from that third party verifying how much cash will be donated and when it will be donated. Verification for funds donated outside the proposed time period of the grant will not be accepted.

If the matching funds are to be provided by a third party in-kind donation, the application must include a signed letter from the third party verifying the goods or services to be donated, when the goods and services will be donated, and the value of the goods or services. Verification for in-kind contributions donated outside the proposed time period of the grant will not be accepted. Verification for in-kind contributions that are over-valued will not be accepted. The valuation process for in-kind funds does not need to be included in the application. However, the applicant must be able to demonstrate how the valuation was derived at the time of notification of tentative selection for the grant award. If the applicant cannot satisfactorily demonstrate how the valuation was determined, the grant award may be withdrawn or the amount of the grant may be reduced.

If matching funds are in cash, they must be spent on goods and services that are eligible expenditures for this grant program. If matching funds are in-kind contributions, the donated goods or services must be considered eligible expenditures for this grant program as well as be used for eligible purposes. The matching funds must be spent or donated during the grant period and the funds must be expended in advance or as a pro-rata portion of grant funds being expended. Examples of unacceptable matching funds are in-kind contributions from individuals, businesses, or cooperatives being assisted by the Center to benefit their own project, donations of fixed equipment and buildings, and the preparation of the RCDG application package.

Expected program income may not be used to fulfill the matching funds requirement at the time of application. If program income is earned during the time period of the grant, it is subject to the requirements of 7 CFR part 3015, subpart F and 7 CFR part 3019.24 and any provisions in the Grant Agreement.

C. Submission Dates and Times

Application Deadline Date: June 8, 2007

Explanation of Deadlines: Paper applications must be postmarked by the deadline date (see Section IV.F for the address). Electronic applications must be received by http://www.grants.gov by the deadline date. If the application does not meet the deadline above, it will not be considered for funding. The applicant will be notified if the application does not meet the submission requirements. The applicant will also be notified by mail or by e-mail if the application is received on time.

D. Intergovernmental Review of Applications

Executive Order 12372, Intergovernmental review of Federal programs, applies to this program. This EO requires that Federal agencies provide opportunities for consultation on proposed assistance with State and local governments. Many states have established a Single Point of Contact (SPOC) to facilitate this consultation. For a list of states that maintain an SPOC, please see the White House Web site: http://www.whitehouse.gov/omb/grants/spoc.html. If an applicant's state has an SPOC, the applicant may submit a copy the application directly for review. Any comments obtained through the SPOC must be provided to USDA Rural Development for consideration as part of the application. If the applicant's state has not established an SPOC, or the applicant does not want to submit a copy of the application, USDA Rural Development will submit the application to the SPOC or other appropriate agency or agencies.

Applicants are also encouraged to contact the USDA Rural Development State Office for assistance and questions on this process. The USDA Rural Development State Office can be reached at (202) 720-4323 and selecting option “1” or by viewing the following Web site: http://www.rurdev.usda/.

E. Funding Restrictions

Funding restrictions apply to both grant funds and matching funds. Grant funds may be used to pay up to 75 percent (95 percent where the grantee is a 1994 Institution) of the total project cost.

1. Grant funds and matching funds may be used for, but are not limited to, providing the following to individuals, cooperatives, small businesses and other similar entities in rural areas served by the Center:

i. Applied research, feasibility, environmental and other studies that may be useful for the purpose of cooperative development.

ii. Collection, interpretation and dissemination of principles, facts, technical knowledge, or other information for the purpose of cooperative development.

iii. Training and instruction for the purpose of cooperative development.

iv. Loans and grants for the purpose of cooperative development in accordance with this notice and applicable regulations.

v. Technical assistance, research services and advisory services for the purpose of cooperative development.

2. No funds made available under this solicitation shall be used for any of the following activities:

i. To duplicate current services or replace or substitute support previously provided. If the current service is inadequate, however, grant funds may be used to expand the level of effort or services beyond that which is currently being provided;

ii. To pay costs of preparing the application package for funding under this program;

iii. To pay costs of the project incurred prior to the date of grant approval;

iv. To fund political activities;

v. To pay for assistance to any private business enterprise that does not have at least 51 percent ownership by those who are either citizens of the United States or reside in the United States after being legally admitted for permanent residence;

vi. To pay any judgment or debt owed to the United States;

vii. To plan, repair, rehabilitate, acquire, or construct a building or facility, including a processing facility;

viii. To purchase, rent, or install fixed equipment, including laboratory equipment or processing machinery;

ix. To pay for the repair of privately owned vehicles;

x. To fund research and development;

xi. To pay costs of the project where a conflict of interest exists; or

xii. To fund any activities prohibited by 7 CFR parts 3015 or 3019.

F. Other Submission Requirements

A paper application for a grant must be submitted to Cooperative Programs, Attn: RCDG Program, 1400 Independence Avenue, SW., Mail Stop 3250, Room 4016-South, Washington, DC 20250-3250. The phone number that should be used for courier delivery is (202) 720-7558. Electronically submitted applications must apply using the following internet address: http://www.grants.gov. Applications may not be submitted by electronic mail, facsimile, or by hand-delivery. Each application submission must contain all required documents in one envelope, if by mail or courier delivery service.

V. Application Review Information

A. Proposal Evaluation Criteria

All eligible and complete applications will be evaluated based on the following criteria. Evaluators will base scores only on the information provided or cross-referenced in each individual evaluation criterion. The maximum amount of points available is 65.

1. Administrative capabilities. (0-7 points) The application will be evaluated to determine whether the subject Center has a track record of administering a Nationally-coordinated, regional or State-wide operated project. Centers that have capable financial systems and audit controls, personnel and program administration performance measures and clear rules of governance will receive more points than those not evidencing this capacity. Points will be awarded as follows:

• 0 points will be awarded if the applicant does not substantively address the criterion.

• 1-2 points will be awarded if the applicant demonstrates weakness in all areas of the criterion.

• 3-4 points will be awarded if the applicant demonstrates that they meet part, but not all, of the criterion.

• 5-6 points will be awarded if the applicant demonstrates that all areas of the criterion are strong.

• 7 points will be awarded if the applicant demonstrates that the Center has a track record of administering project(s) and their financial systems and audit controls, personnel and program administration performance measures and clear rules of governance are outstanding and could not be improved.

2. Technical assistance and other services. (0-7 points) The Agency will evaluate the applicant's demonstrated expertise in providing technical assistance in rural areas. Points will be awarded as follows:

• 0 points will be awarded if the applicant does not substantively address the criterion.

• 1-2 points will be awarded if the applicant demonstrates weakness in providing technical assistance in rural areas.

• 3-4 points will be awarded if the applicant demonstrates that their expertise in providing technical assistance in rural areas is adequate.

• 5-6 points will be awarded if the applicant demonstrates that their expertise in providing technical assistance in rural areas is above average.

• 7 points will be awarded if the applicant demonstrates that their expertise in providing technical assistance in rural areas is outstanding and could not be improved.

3. Economic development. (0-7 points) The Agency will evaluate the applicant's demonstrated ability to assist in the retention of businesses, facilitate the establishment of cooperatives and new cooperative approaches and generate employment opportunities that will improve the economic conditions of rural areas. Points will be awarded as follows:

• 0 points will be awarded if the applicant does not substantively address the criterion.

• 1-2 points will be awarded if the applicant demonstrates weakness in all areas of the criterion.

• 3-4 points will be awarded if the applicant demonstrates that they meet part, but not all, of the criterion.

• 5-6 points will be awarded if the applicant demonstrates that all areas of the criterion are strong.

• 7 points will be awarded if the applicant demonstrates outstanding ability to assist in improvements to the economic conditions of rural areas.

4. Linkages. (0-7 points) The Agency will evaluate the applicant's demonstrated ability to create horizontal linkages among businesses within and among various sectors in rural areas of the United States and vertical linkages to domestic and international markets. Points will be awarded as follows:

• 0 points will be awarded if the applicant does not substantively address the criterion.

• 1-2 points will be awarded if the applicant demonstrates weakness in all areas of the criterion.

• 3-4 points will be awarded if the applicant demonstrates that they meet part, but not all, of the criterion.

• 5-6 points will be awarded if the applicant demonstrates that all areas of the criterion are strong.

• 7 points will be awarded if the applicant demonstrates outstanding ability to create horizontal and vertical linkages.

5. Commitment. (0-7 points) The Agency will evaluate the applicant's commitment to providing technical assistance and other services to underserved and economically distressed areas in rural areas of the United States. Points will be awarded as follows:

• 0 points will be awarded if the applicant does not substantively address the criterion.

• 1-2 points will be awarded if the applicant demonstrates weakness in all areas of the criterion.

• 3-4 points will be awarded if the applicant demonstrates that they meet part, but not all, of the criterion.

• 5-6 points will be awarded if the applicant demonstrates that all areas of the criterion are strong.

• 7 points will be awarded if the applicant demonstrates outstanding commitment to underserved and economically distressed areas in rural areas.

6. Matching Funds. (3 or 5 points) All applicants must demonstrate matching funds equal to at least 25 percent (5 percent for 1994 Institutions) of total project costs. Applications exceeding these minimum commitment levels will receive more points. If the applicant provides eligible matching funds of 26 to 50 percent, 3 points will be awarded; or greater than 50 percent, 5 points will be awarded. If the applicant is a 1994 Institution and provides eligible matching funds of 6 to 20 percent, 3 points will be awarded; or greater than 20 percent, 5 points will be awarded.

7. Delivery. (0-5 points) The Agency will evaluate whether the Center has a track record of providing technical assistance in rural areas and accomplishing effective outcomes in cooperative development. The Center's potential for delivering effective cooperative development assistance, the expected effects of that assistance, the sustainability of cooperative organizations receiving the assistance, and the transferability of the Center's cooperative development strategy and focus to other States will also be assessed. Points will be awarded as follows:

• 0 points will be awarded if the applicant does not substantively address the criterion.

• 1-2 points will be awarded if the applicant demonstrates that they meet part, but not all, of the criterion.

• 3-4 points will be awarded if the applicant demonstrates that all areas of the criterion are strong.

• 5 points will be awarded if the applicant demonstrates that all areas of the criterion are outstanding and could not be improved.

8. Work Plan/Budget. (0-5 points) The work plan will be reviewed for detailed actions and an accompanying timetable for implementing the proposal. Clear, logical, realistic and efficient plans will result in a higher score. Budgets will be reviewed for completeness and the quality of non-Federal funding commitments. Applicants must discuss the specific tasks (whether it be by type of service or specific project) to be completed using grant and matching funds. The work plan should show how customers will be identified, key personnel to be involved, and the evaluation methods to be used to determine the success of specific tasks and overall objectives of Center operations. The budget must present a breakdown of the estimated costs associated with cooperative development activities as well as the operation of the Center and allocate these costs to each of the tasks to be undertaken. Matching funds as well as grant funds must be accounted for in the budget. Points will be awarded as follows:

• 0 points will be awarded if the applicant does not substantively address the criterion.

• 1-2 points will be awarded if the applicant demonstrates that they meet part, but not all, of the criterion.

• 3-4 points will be awarded if the applicant demonstrates that all areas of the criterion are strong.

• 5 points will be awarded if the applicant demonstrates that all areas of the criterion are outstanding and could not be improved.

9. Qualifications of those Performing the Tasks. (0-5 points) The application will be evaluated to determine if the personnel expected to perform key center tasks have a track record of positive solutions for complex cooperative development or marketing problems, or a successful record of conducting accurate feasibility studies, business plans, marketing analysis, or other activities relevant to Cooperative development center success. The applicant must also identify whether the personnel expected to perform tasks are full/part-time Center employees or contract personnel. Points will be awarded as follows:

• 0 points will be awarded if the applicant does not substantively address the criterion.

• 1-2 points will be awarded if the applicant demonstrates that they meet part, but not all, of the criterion.

• 3-4 points will be awarded if the applicant demonstrates that all areas of the criterion are strong.

• 5 points will be awarded if the applicant demonstrates that all areas of the criterion are outstanding and could not be improved.

10. Local support. (0-5 points) Applications will be reviewed for previous and expected local support for the Center, plans for coordinating with other developmental organizations in the proposed service area, and coordination with State and local institutions. Support documentation should include recognition of rural values that balance employment opportunities with environmental stewardship and other positive rural amenities. Centers that demonstrate strong support from potential beneficiaries and formal evidence of the Center's intent to coordinate with other developmental organizations will receive more points than those not evidencing such support and formal intent. Support should be discussed directly within the response to this criterion. The applicant may submit a maximum of 10 letters of support or intent to coordinate with the application. These letters should be included in Appendix B of the application and will not count against the 40-page limit for the narrative. Points will be awarded as follows:

• 0 points will be awarded if the applicant does not substantively address the criterion.

• 1-2 points will be awarded if the applicant demonstrates that they meet part, but not all, of the criterion.

• 3-4 points will be awarded if the applicant demonstrates that all areas of the criterion are strong.

• 5 points will be awarded if the applicant demonstrates that all areas of the criterion are strong and the support from potential beneficiaries and formal evidence of the Center's intent to coordinate with other developmental organizations are outstanding and could not be improved.

11. Future support. (0-5 points) Applicants should describe their vision for Center operations in future years, including issues such as sources and uses of alternative funding; reliance on Federal, State, and local grants; and the use of in-house personnel for providing services versus contracting out for that expertise. To the extent possible, applicants should document future funding sources that will help achieve long-term sustainability of the Center. Applications that demonstrate their vision for funding center operations for future years, including diversification of funding sources and building in-house technical assistance capacity, will receive more points for this criterion. Points will be awarded as follows:

• 0 points will be awarded if the applicant does not substantively address the criterion.

• 1-2 points will be awarded if the applicant demonstrates that they meet part, but not all, of the criterion.

• 3-4 points will be awarded if the applicant demonstrates that all areas of the criterion are strong.

• 5 points will be awarded if the applicant demonstrates that all areas of the criterion are strong and their diversification of funding sources and ability to build in-house technical assistance capacity are outstanding and could not be improved.

B. Review and Selection Process

The Agency will screen all of the proposals to determine whether the application is eligible and sufficiently responsive to the requirements set forth in this notice to allow for an informed review.

The Agency will evaluate applications using a panel of qualified reviewers who will score the applications in accordance with the point allocation specified in this notice. Applications will be submitted to the Administrator in rank order, together with funding level recommendations.

C. Anticipated Announcement and Award Dates

Award Date: The announcement of award selections is expected to occur on or about September 14, 2007.

VI. Award Administration Information

A. Award Notices

Successful applicants will receive a notification of tentative selection for funding from USDA Rural Development. Applicants must comply with all applicable statutes and regulations before the grant award will be approved. Unsuccessful applicants will receive notification by mail.

B. Administrative and National Policy Requirements

7 CFR parts 3015, 3019, and 4284. To view these regulations, please see the following Internet address: http://www.access.gpo.gov/nara/cfr/cfr-table-search.html.

The following additional requirements apply to grantees selected for this program:

• Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion—Lower Tier Covered Transactions.”

• Form AD-1049, “Certification Regarding Drug-Free Workplace Requirements (Grants).”

• Form RD 400-4, “Assurance Agreement.”

• RD Instruction 1940-Q, Exhibit A-1, “Certification for Contracts, Grants and Loans.”

• Form RD 2006-38, “Civil Rights Impact Analysis.” Prior to approval of all grants, a Civil Rights Impact Analysis will be conducted.

Additional information on these requirements can be found at http://www.rurdev.usda.gov/rbs/coops/rcdg/rcdg.htm.

Reporting Requirements: Grantees must provide USDA Rural Development with an original or electronic copy that includes all required signatures of the following reports. The reports should be submitted to the Agency contact listed on the Grant Agreement and Letter of Conditions. Failure to submit satisfactory reports on time may result in suspension or termination of the grant.

1. Form SF-269 or SF-269A. A “Financial Status Report” listing expenditures according to agreed upon budget categories, on a semi-annual basis. Reporting periods end each March 31 and September 30. Reports are due 30 days after the reporting period ends.

2. Semi-annual performance reports that compare accomplishments to the objectives stated in the proposal. Identify all tasks completed to date and provide documentation supporting the reported results. If the original schedule provided in the work plan is not being met, the report should discuss the problems or delays that may affect completion of the project. Objectives for the next reporting period should be listed. Compliance with any special conditions on the use of award funds should be discussed. The report should also include a summary at the end of the report with the following elements to assist in documenting the annual performance goals of the RCDG program for Congress.

• Number of groups who are not legal entities assisted.

• Number of businesses that are not cooperatives assisted.

• Number of cooperatives assisted.

• Number of businesses incorporated that are not cooperatives.

• Number of cooperatives incorporated.

• Total number of jobs created as a result of assistance.

• Total number of jobs saved as a result of assistance.

• Number of jobs created for the Center as a result of RCDG funding.

• Number of jobs saved for the Center as a result of RCDG funding.

Reports are due as provided in paragraph 1 of this section. Supporting documentation must also be submitted for completed tasks. The supporting documentation for completed tasks includes, but is not limited to: feasibility studies, marketing plans, business plans, publication quality success stories, applied research reports, copies of surveys conducted, articles of incorporation and bylaws and an accounting of how outreach, training, and other funds were expended.

3. Final project performance reports. These reports shall include all of the requirements of the semi-annual performance reports and responses to the following:

i. What have been the most challenging or unexpected aspects of this program?

ii. What advice would the Grantee give to other organizations planning a similar program? These should include strengths and limitations of the program. If the Grantee had the opportunity, what would they have done differently?

iii. If an innovative approach was used successfully, the Grantee should describe their program in detail so that other organizations might consider replication in their areas.

The final performance report is due within 90 days of the completion of the project.

VII. Agency Contacts

For general questions about this announcement and for program technical assistance, applicants should contact their USDA Rural Development State Office at http://www.rurdev.usda.gov/rbs/coops/rcdg/Contacts.htm. The State Office can be reached by calling (202) 720-4323 and pressing “1”. If an applicant is unable to contact their State Office, please contact a nearby State Office or the USDA Rural Development National Office at 1400 Independence Avenue, SW., Mail Stop 3250, Rm. 4016-South, Washington, DC 20250-3250, telephone: (202) 720-7558, e-mail: cpgrants@wdc.usda.gov.

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (866) 632-9992 (voice) or (202) 401-0216 (TDD). USDA is an equal opportunity provider and employer.

Dated: April 11, 2007.
Jackie J. Gleason,
Administrator, Rural Business-Cooperative Service.

[FR Doc. E7-7370 Filed 4-17-07; 8:45 am]

BILLING CODE 3410-XY-P